DEPARTMENT OF THE INTERIOR

National Park Service

[NPS-SERO-GUIS-10929; 5017-7129-409]

Notice of Intent To Prepare an Environmental Impact Statement for Personal Watercraft Use at Gulf Islands National Seashore, Florida and Mississippi

AGENCY: National Park Service, Interior.

ACTION: Notice of Intent.

SUMMARY: Pursuant to Section 102(2)(c) of the National Environmental Policy Act of 1969, 42 U.S.C. 4332(2)(C), the National Park Service (NPS) is preparing an Environmental Impact Statement (EIS) to analyze the impacts of Personal Watercraft (PWC) use at Gulf Islands National Seashore (GUIS).

Personal Watercraft use emerged at GUIS in the 1980s and was permitted in units of the national park system under the same regulations as other motorized watercraft. However, on March 21, 2000, the NPS published a regulation governing PWC use within all units of the national park system (65 FR 15077, codified at 36 CFR 3.24). This regulation prohibits PWC use in all national park units unless the NPS determines that this type of water-based recreational activity is appropriate for the specific park unit based on the legislation establishing that park, the park's resources and values, other visitor uses of the area, and overall management objectives.

In 2004, the NPS prepared an Environmental Assessment (EA) for a special regulation to allow continued PWC use at GUIS. The purpose of the EA was to evaluate a range of alternatives and strategies for the management of PWC use at GUIS to ensure the protection of park resources and values, while offering recreational opportunities as provided for in the GUIS enabling legislation, purpose, mission, and goals. A Finding of No Significant Impact (FONSI) was signed on January 25, 2006. The NPS published the final regulation for PWC use at GUIS in the Federal Register on May 4, 2006 (71 FR 26232).

On May 15, 2008, a lawsuit was filed claiming that the PWC EA was deficient and violated NEPA, the NPS Organic Act, and the Administrative Procedure Act. On July 8, 2010, the U.S. District Court for the District of Columbia found that the impact analysis in the EA was inadequate. The court did not vacate the current PWC rule at GUIS, but remanded the case to the NPS “so that it may have an opportunity to provide adequate reasoning for its conclusions.” The special regulation remains in effect at GUIS and PWC are currently still allowed to operate under the restrictions identified in the park's special regulation. At this time, the NPS intends to address the deficiencies identified by the court by preparing an EIS for PWC use at GUIS, which will include supplemental documentation, impact analyses not present in the earlier EA, and may include additional alternatives.

DATES: Interested individuals, organizations, and agencies are encouraged to provide written comments regarding the scope of issues to be addressed in the EIS. The NPS will accept comments from the public for 60 days from the date that this Notice of Intent is published in the Federal Register or 15 days after the last public scoping meeting, whichever is later. NPS intends to hold public scoping meetings on the PWC EIS in the vicinity of GUIS, including both the Florida (Gulf Breeze/Pensacola Beach Area) and Mississippi (Ocean Springs/Biloxi/Pascagoula Area) Districts during this scoping period. Specific dates, times, and locations will be made available in the local media and on the NPS's Planning, Environment and Public Comment (PEPC) Web site at http://parkplanning.nps.gov/guis-PWC-EIS. The scoping meetings will also be announced via a park press release and through email notification to the individuals and organizations on the park's mailing list. The NPS will provide additional opportunities for the public to provide written comments upon publication of the draft EIS.

ADDRESSES: Information will be available for public review online at http://parkplanning.nps.gov/guis-PWC-EIS and in the office of the Superintendent, 1801 Gulf Breeze Parkway, Gulf Breeze, FL 32563.

FOR FURTHER INFORMATION CONTACT: Daniel Brown, Superintendent, Gulf Islands National Seashore, 1801 Gulf Breeze Parkway, Gulf Breeze, FL 32563; telephone (850) 916-3023.

SUPPLEMENTARY INFORMATION: If you wish to comment during the scoping process, you may use any one of several methods. The preferred method for submitting comments is on the NPS PEPC Web site at http://parkplanning.nps.gov/guis-PWC-EIS. You may also mail or hand-deliver your comments on the PWC EIS to the Superintendent, Gulf Islands National Seashore, 1801 Gulf Breeze Parkway, Gulf Breeze, FL 32563. Oral statements and written comments will also be accepted during scheduled public meetings. Comments will not be accepted by fax, email, or in any other method than those specified above. Comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

The responsible official for this Notice of Intent is the Regional Director, Southeast Region, NPS, 100 Alabama Street SW., 1924 Building, Atlanta, Georgia 30303.

Dated: January 11, 2013.
Gordon Wissinger,
Acting Regional Director, Southeast Region.

[FR Doc. 2013-02482 Filed 2-4-13; 8:45 am]

BILLING CODE 4310-X8-P